DEPARTMENT OF AGRICULTURE

Forest Service

Proposed New Fee Sites

AGENCY: Forest Service, USDA.

ACTION: Notice of new fee sites.

SUMMARY: The Custer Gallatin National Forest will be implementing new fees at three campgrounds and two rental cabins listed in SUPPLEMENTARY INFORMATION of this notice. Both cabins have received extensive renovations. One cabin has been completely restored to maintain its eligibility for the National Historic Register. All the campgrounds have had recent upgrades to improve the services and recreation experiences. Fees are based on the level of amenities and services provided, cost of operation and maintenance, market assessment, and public comment. Funds from the new fees will be used for continued operation, maintenance, and capital improvements to these recreation sites. The new fees will align the sites with other sites offering similar amenities and services.

DATES: These fees will be implemented no earlier than six months following the publication of this notice, approximately January 28, 2022.

ADDRESSES: Custer Gallatin National Forest, P.O. Box 130, Bozeman, MT 59715.

FOR FURTHER INFORMATION CONTACT: Jane Ruchman, Developed Sites Program Manager, 406-587-6966 or jane.ruchman@usda.gov; or Jeff Ward, Regional Recreation Business Program Manager, 406-329-3587 or jeffrey.p.ward@usda.gov.

SUPPLEMENTARY INFORMATION: The Federal Recreation Lands Enhancement Act (Title VII, Pub. L. 108-447) directed the Secretary of Agriculture to publish a six-month advance notice in the Federal Register whenever new recreation fees are established.

Specifically, the Custer Gallatin National Forest will be implementing the following new fees:

• Eldridge Cabin; $75 per night;

• Sage Creek Cabin; $65 per night;

• Falls Creek and Hells Canyon Campgrounds; $10 per night, with an additional $5 extra vehicle fee per night.

• Battle Ridge Campground; $10 for single sites and $20 for double sites, per night, with an additional $5 extra vehicle fee per night (number of vehicles allowed per site varies by site capacity).

This proposal was vetted through the U.S. Forest Service, Northern Region public involvement process, which included announcement of the proposal in local and regional media outlets, on the Forest internet and social media sites, and briefing of federal and local elected officials. The results of these efforts were presented to the local Resource Advisory Committees (RAC) for evaluation and recommendation to implement the new fees.

Reasonable fees, paid by users of these sites and services, will help ensure the Forest can continue maintaining and improving the sites for future generations. A market analysis of surrounding recreation sites with similar amenities indicates the proposed fees are comparable and reasonable.

Advanced reservations for the Eldridge and Sage Creek Cabins will be available through www.recreation.gov or by calling 1-877-444-6777. The reservation service charges an $8.00 fee for reservations.

Dated: July 23, 2021.
Jennifer Eberlien,
Associate Deputy Chief, National Forest System.

[FR Doc. 2021-16027 Filed 7-27-21; 8:45 am]

BILLING CODE 3411-15-P